ENVIRONMENTAL PROTECTION AGENCY

40 CFR Part 300

[FRL-8469-6]

National Oil and Hazardous Substances Pollution Contingency Plan; National Priorities List

AGENCY: Environmental Protection Agency.

ACTION: Notice of deletion for the Grand Street Mercury Superfund Site from the National Priorities List.

SUMMARY: The U.S. Environmental Protection Agency (EPA) Region II Office announces the deletion of the Grand Street Mercury Superfund Site from the National Priorities List (NPL). The Grand Street Mercury Site is located in the city of Hoboken, Hudson County, New Jersey. The NPL constitutes Appendix B to the National Oil and Hazardous Substances Pollution Contingency Plan (NCP), 40 CFR part 300, which EPA promulgated pursuant to section 105 of the Comprehensive Environmental Response, Compensation, and Liability Act of 1980 (CERCLA), as amended. EPA and the State of New Jersey, through the Department of Environmental Protection (NJDEP) have determined that all appropriate response actions have been implemented and no further response actions are required. In addition, EPA and the NJDEP have determined that the remedial action taken at the Grand Street Mercury Site is protective of public health, welfare, and the environment.

DATES: Effective Date: September 18, 2007.

FOR FURTHER INFORMATION CONTACT: Farnaz Saghafi, Remedial Project Manager, U.S. Environmental Protection Agency, Region II, 290 Broadway, 19th Floor, New York, New York 10007-1866, (212) 637-4408.

SUPPLEMENTARY INFORMATION: To be deleted from the NPL is: The Grand Street Mercury Superfund site, City of Hoboken, Hudson County, New Jersey.

A Notice of Intent to Delete for the Grand Street Mercury Site was published in the Federal Register on June 28, 2007. The closing date for comments on the Notice of Intent to Delete was July 28, 2007. No comments were received by EPA on the proposed deletion during the public comment period. EPA's decision to propose the site for deletion is based on the successful implementation of the remedy which included demolition of the former industrial building and excavation and restoration of contaminated soils, thereby mitigating risks to human health and the environment. The monitoring data collected, since the construction of the remedy was completed in December 2004, confirmed that the remedy is protective of human health and the environment. EPA identifies sites that appear to present a significant risk to public health, welfare, or the environment and it maintains the NPL as the list of those sites. As described in § 300.425(e)(3) of the NCP, any site or portion thereof deleted from the NPL remains eligible for remedial actions in the unlikely event that conditions at the site warrant such action in the future. Deletion of a site from the NPL does not affect responsible party liability or impede agency efforts to recover costs associated with response efforts.

List of Subjects in 40 CFR Part 300

Environmental protection, Air pollution controls, Chemicals, Hazardous substances, Hazardous waste, Intergovernmental relations, Penalties, Reporting and recordkeeping requirements, Superfund, Water pollution control, Water supply.

Dated: August 17, 2007.
Alan J. Steinberg,
Regional Administrator—Region II.

For the reasons set out in the preamble, part 300, Chapter I of Title 40 of the Code of Federal Regulations, is amended as follows:

PART 300—[AMENDED]

1. The authority citation for part 300 continues to read as follows:

Authority: 42 U.S.C. 9601-9675; 33 U.S.C. 1321(c)(2); E.O. 12777, 56 FR 54757, 3 CFR, 1991 Comp., p. 351; E.O. 12580, 52 FR 2923, 3 CFR, 1987 Comp., p. 193.

Appendix B—[Amended]

2. Table 1 of Appendix B to part 300 is amended by removing “Grand Street Mercury, Hoboken, NJ.”

[FR Doc. E7-18363 Filed 9-17-07; 8:45 am]

BILLING CODE 6560-50-P